DEPARTMENT OF AGRICULTURE

Food Safety and Inspection Service

[Docket No. FSIS-2010-0042]

Codex Alimentarius Commission: Meeting of the Codex Committee on Fat and Oils

AGENCY: Office of the Under Secretary for Food Safety, USDA.

ACTION: Notice of public meeting and request for comments.

SUMMARY: The Office of the Under Secretary for Food Safety, U.S. Department of Agriculture (USDA), and the U.S. Food and Drug Administration (FDA) are sponsoring a public meeting on February 9, 2011. The objective of the public meeting is to provide information and receive public comments on agenda items and draft United States (U.S.) positions that will be discussed at the 22nd session of the Codex Committee on Fats and Oils (CCFO) of the Codex Alimentarius Commission (Codex), which will be held in Penang, Malaysia, February 21-25, 2011. The Under Secretary for Food Safety and the FDA recognize the importance of providing interested parties the opportunity to obtain background information on the 22nd session of the CCFO and to address items on the agenda.

DATES: The public meeting is scheduled for February 9, 2011, from 1:30-4 p.m.

ADDRESSES: The public meeting will be held at FDA, Harvey W. Wiley Building, Auditorium (1A003), 5100 Paint Branch Parkway, College Park, MD 20740. Documents related to the 22nd session of the CCFO will be accessible via the World Wide Web at the following address: http://www.codexalimentarius.net/current.asp.

Martin Stutsman, U.S. Delegate to the 22nd Session of the CCFO, and the FDA, invite U.S. interested parties to submit their comments electronically to the following e-mail address: Martin.Stutsman@fda.hhs.gov.

Call-In Number:

If you wish to participate in the public meeting for the 22nd session of the CCFO by conference call, please use the following call-in number and participant code listed below:

Call-in Number: 1-866-859-5767

Participant Code: 2225276

For Further Information About the 22nd Session of the CCFO Contact: Martin Stutsman, J.D., Office of Food Safety (HFS-317) Center for Food Safety and Applied Nutrition, FDA, 5100 Paint Branch Parkway, College Park, Maryland 20740, phone: (301) 436-1642, fax: (301) 436-2651, e-mail: Martin.Stutsman@fda.hhs.gov.

For Further Information About the Public Meeting Contact: Marie Maratos, U.S. Codex Office, 1400 Independence Avenue, SW., Room 4861, Washington, DC 20250, phone: (202) 690-4795, mobile: (202) 412-7901, fax: (202) 720-3157, e-mail: Marie.Maratos@fsis.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure that fair practices are used in trade.

The CCFO is responsible for elaborating worldwide standards for fats and oils of animal, vegetable, and marine origin, including margarine and olive oil.

The Committee is hosted by Malaysia.

Issues To Be Discussed at the Public Meeting

The following items on the agenda for the 22nd Session of the CCFO will be discussed during the public meeting:

• Matters referred by Codex and other Committees

• Draft Amendment to the Standard for Named Vegetable Oils: Inclusion of Palm Kernel Olein and Palm Kernel Stearin

• Code of Practice for the Storage and Transport of Edible Fats and Oils in Bulk

(a) Draft Criteria to Assess the Acceptability of Substances for Inclusion in a list of Acceptable Previous Cargoes

(b) Draft List of Acceptable Previous Cargoes

(c) Proposed Draft List of Acceptable Previous Cargoes

• Proposed Draft Amendment to the Standard for Olive Oils and Olive Pomace Oils: Linolenic Acid Level

• Proposal to Amend the Standard for Olive Oils and Olive Pomace Oils: Content of Delta—7- stigmastenol

• Proposal for New Work on a Standard for Fish Oils

• Proposal to Amend the Standard for Named Vegetable Oils: Sunflower Seed Oils

Each issue listed will be fully described in documents distributed, or to be distributed, by the Secretariat prior to the meeting. Members of the public may access copies of these documents (see ADDRESSES).

Public Meeting

At the February 9, 2011, public meeting, draft U.S. positions on the agenda items will be described and discussed, and attendees will have the opportunity to pose questions and offer comments. Written comments may be offered at the meeting or sent to the U.S. Delegate for the 22nd Session of the CCFO—Martin Stutsman (see ADDRESSES). Written comments should state that they relate to activities of the 22nd Session of the CCFO.

USDA Nondiscrimination Statement

USDA prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at 202-720-2600 (voice and TTY).

To file a written complaint of discrimination, write USDA, Office of the Assistant Secretary for Civil Rights, 1400 Independence Avenue, SW., Washington, DC 20250-9410 or call 202-720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/Federal_Register_Notices/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience. In addition, FSIS offers an e-mail subscription service which provides automatic and customized access to selected food safety news and information. This service is available at http://www.fsis.usda.gov/News_&_Events/Email_Subscription/.

Options range from recalls, export information, regulations, directives, and notices. Customers can add or delete subscriptions themselves, and have the option to password protect their accounts.

Done at Washington, DC on January 24, 2011.
Karen Stuck,
U.S. Manager for Codex Alimentarius.

[FR Doc. 2011-1916 Filed 1-27-11; 8:45 am]

BILLING CODE 3410-DM-P